ENVIRONMENTAL PROTECTION AGENCY

[ER-FRL-8995-7]

Environmental Impacts Statements; Notice of Availability

Responsible Agency: Office of Federal Activities, General Information (202) 564-1399 or http://www.epa.gov/compliance/nepa/.

Weekly Receipt of Environmental Impact Statements Filed 02/21/2011 Through 02/25/2011

Pursuant to 40 CFR 1506.9

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110055, Second Draft Supplement, USACE, CA, Sacramento River Deep Water Ship Channel Project, Proposal to Re-initiate Deepening and Selective Widening, Yolo, Sacramento, Solano and Contra Costa Counties, CA, Comment Period Ends: 04/18/2011, Contact: Dr. William Brostoff 415-503-6867.

EIS No. 20110056, Final EIS, NRC, TX, South Texas Project, Electric Generating Station Units 3 and 4, Application for Combined Licenses (COLs) for Construction Permits and Operating Licenses, Matagorda County, TX, Review Period Ends: 04/04/2011, Contact: Jessie M. Muir 301-415-0491.

EIS No. 20110057, Draft EIS, USACE, FL, Everglades Restoration Transition Plan (ERTP), To Defined Water Management Operating Criteria for Central and Southern Florida Project (C&SF) features and the Constructed features of the Modified Water Deliveries and Canal-III Project until a Combined Operational Plan is Implemented, Broward and Miami-Dade Counties, FL, Comment Period Ends: 04/18/2011, Contact: Gina Paduano Ralph 904-232-2336.

EIS No. 20110058, Final EIS, USFS, UT, Uinta National Forest Oil and Gas Leasing, Implementation, Identify National Forest Systems Lands with Federal Mineral Rights, Wasatch, Utah, Juab, Tooele, and Sanpete Counties, UT, Review Period Ends: 04/04/2011, Contact: Kim Martin 801-342-5100.

EIS No. 20110059, Final EIS, USACE, 00, Sabine-Neches Waterway Channel Improvement Project, Proposed Ocean Dredged Material Disposal Site Designation, Southeast Texas and Southwest Louisiana, Review Period Ends: 04/04/2011, Contact: Janelle Stokes 409-766-3039.

EIS No. 20110060, Draft EIS, DOE, WV, Mountaineer Commercial Scale Carbon Capture and Storage Project, Construction and Operation, New Haven, Mason County, WV, Comment Period Ends: 04/18/2011, Contact: Mark W. Lusk 304-285-4145.

EIS No. 20110061, Final EIS, USFS, MN, Tracks Project, Proposing Forest Vegetation Management and Related Transportation System Activities, Superior National Forest, Laurentian Ranger District, St. Louis and Lake Counties, MN, Review Period Ends: 04/04/2011, Contact: Sudan Duffy 218-365-2097.

EIS No. 20110062, Draft EIS, USACE, LA, New Orleans To Venice (NOV), Louisiana, Hurricane Rick Reduction Project, Incorporation of Non-Federal Levees from Oakville to St. Jude, Plaquemines Parish, LA, Comment Period Ends: 04/18/2011, Contact: Christopher Koeppel 601-631-5410.

EIS No. 20110063, Draft EIS, USFS, CA, Mudflow Vegetation Management Project, To Improve or Sustain the Health and Resiliency of the Forest and Reduce the Risk of Stand-replacing Wildfire, Siskiyou County, CA, Comment Period Ends: 04/18/2011, Contact: J. Sharon Heywood 530-226-2520.

EIS No. 20110064, Final EIS, FERC, CA, McCloud-Pit Hydroelectric Project, (Project No. 2106) Application to Relicense its 368-Megawatt (MW), McCloud and Pit Rivers, Shasta County, CA, Review Period Ends: 04/04/2011, Contact: Mary O'Driscoll 1-866-208-3372.

EIS No. 20110065, Draft EIS, FHWA, TN, North Second Street Corridor Improvement Project, from Interstate 40 at North Second Street to the Intersection of U.S. 51/SR-32 Whitney Avenue in Memphis, Shelby County, TN, Comment Period Ends: 04/18/2011, Contact: Charles J. O'Neill 615-781-5770.

EIS No. 20110066, Final EIS, NNSA, TN, Y-12 National Security Complex Project, to Support the Stockpile Stewardship Program and to Meet the Mission Assigned to Y-12, Oak Ridge, TN, Review Period Ends: 04/04/2011, Contact: Pam Gorman 865-576-9903.

Amended Notices

EIS No. 20110008, Draft EIS, BIA, CA, Big Sandy Rancheria and Casino and Resort Project, Proposing Construct a Gaming and Entertainment Facility, Approval of Lease Agreement Grant, Big Sandy Rancheria Band of Western Mono Indians, East of Friant, Fresno County, CA, Comment Period Ends: 04/12/2011, Contact: Marvin Keller 703-390-6470.

Revision to FR Notice Published 01/14/2011: Extending Comment Period from 03/28/2011 to 04/12/2011.

EIS No. 20110021, Final EIS, NPS, 00, Long Walk National Historic Trail Feasibility Study, To Evaluate the Suitability and Feasibility of Designating the Routes, Implementation, Apache, Coconino, Navajo Counties, AZ; Bernalillo, Cibola, De Baca, Guadalupe, Lincoln, McKinley, Mora, Otero, Santa Fe, Sandolval, Torrance, Valencia Counties, NM, Review Period Ends: 04/04/2011, Contact: Sharon Brown 505-988-6717.

Revision to FR Notice Published 01/28/2011: CEQ Review Period Ending 02/28/2011 has been Reestablished to 04/04/2011. Due to Incomplete Distribution of the FEIS at the time of Filing with USEPA under section 1506.9 of the CEQ Regulations.

EIS No. 20110052, Draft EIS, USFS, 00, PROGRAMMATIC—National Forest System Land Management Planning, Proposing a New Rule at 36 CFR Part 219 Guide Development, Revision, and Amendment of Land Management Plans for Unit of the National Forest System, Comment Period Ends: 05/16/2011, Contact: Brenda Halter-Glenn 202-260-9400.

Revision to FR Notice Published 02/25/2011: Correction to Comment Period from 05/25/2011 to 05/16/2011.

EIS No. 20110053, Final EIS, USACE, 00, PROGRAMMATIC—Ohio River Mainstem System Study, System Investment Plan (SIP) for Maintaining Safe, Environmentally Sustainable and Reliable Navigation on the Ohio River, IL, IN, OH, KY, PA and WV, Review Period Ends: 04/12/2011, Contact: Dr. Hank Jarboe 513-684-6050.

Revision FR Notice Published 02/25/2011: Extending Review Period from 03/28/2011 to 04/12/2011.

Dated: March 1, 2011.
Robert W. Hargrove,
Director, NEPA Compliance Division, Office of Federal Activities.

[FR Doc. 2011-4887 Filed 3-3-11; 8:45 am]

BILLING CODE 6560-50-P